DEPARTMENT OF AGRICULTURE

Agricultural Marketing Service

[Docket No. LS-02-08]

Notice of Request for Extension of a Currently Approved Information Collection

AGENCY: Agricultural Marketing Service, USDA.

ACTION: Notice and request for comments.

SUMMARY: In accordance with the Paperwork Reduction Act of 1995 (44 U.S.C. Chapter 35), this notice announces the Agricultural Marketing Service's (AMS) intention to request an extension and revision of a currently approved information collection used to compile and generate the livestock and meat market reports for the Livestock and Grain Market News Program.

DATES: Comments on this notice must be received by September 20, 2002, to be assured of consideration.

Additional Information or Comments: Comments may be mailed to Jimmy A. Beard; Assistant to the Chief; Livestock and Grain Market News Branch, Livestock and Seed Program, AMS, USDA; STOP 0252; 1400 Independence Avenue, SW.; Washington, DC 20250-0252; Phone (202) 720-8054; Fax (202) 690-3732; or e-mail to John.VanDyke@usda.gov. All comments received will be available for public inspection at this address during the hours of 8 a.m. to 4 p.m. Monday through Friday, and on the Internet at http://www.ams.usda.gov/lsg/mncs.

All responses to this notice will be summarized and included in the request for OMB approval. All comments will become a matter of public record.

SUPPLEMENTARY INFORMATION: Title: Livestock and Meat Market Reports.

OMB Number: 0581-0154.

Expiration Date of Approval: 09-30-2002.

Type of Request: Extension of a currently approved information collection.

Abstract: The Agricultural Marketing Act of 1946 (7 U.S.C. 1621, et seq) directs and authorizes the collection and dissemination of marketing information including adequate outlook information, on a market area basis, for the purpose of anticipating and meeting consumer requirements aiding in the maintenance of farm income and to bring about a balance between production and utilization.

Under this market news program, USDA issues market news reports covering the livestock and meat trade, which includes a wide range of industry contacts, including packers, processors, producers, brokers, and retailers. These reports are compiled on a voluntary basis, in cooperation with the livestock and meat industry. The information provided by respondents initiates market news reporting, which must be timely, accurate, unbiased, and continuous if it is to be useful to the industry. The livestock and meat industry requested that USDA issue livestock and meat market reports in order to assist them in making immediate production and marketing decisions and as a guide in making sound marketing decisions. The industry uses the livestock and meat reports for assistance in making marketing and production decisions. Also, since the Government is a large purchaser of meat, the reporting and use of this data is helpful.

Estimate of Burden: Public reporting burden for this collection of information is estimated at .03 hours per response.

Respondents: Business or other for-profit, individuals or households and farms.

Estimated Number of Respondents: 450.

Estimated Number of Responses per Respondent: 520.

Estimated Total Annual Burden on Respondents: 7,020 hours.

Comments are invited on: (1) Whether the proposed collection of information is necessary for the proper performance of the functions of the Agency, including whether the information will have practical utility; (2) the accuracy of the Agency's estimate of the burden of the proposed collection of information, including the validity of the methodology and assumptions used; (3) ways to enhance quality, utility, and clarity of the information to be collected; and (4) ways to minimize the burden of the collection of information on those who are to respond, including the use of appropriate automated, electronic, mechanical, or other technological collection techniques or other forms of information technology.

Dated: July 16, 2002.
A.J. Yates,
Administrator, Agricultural Marketing Service.

[FR Doc. 02-18338 Filed 7-19-02; 8:45 am]

BILLING CODE 3410-02-P